DEPARTMENT OF COMMERCE

International Trade Administration

[A-570-848]

Notice of Extension of the Preliminary Results of New Shipper Antidumping Duty Reviews: Crawfish Tail Meat From the People's Republic of China

AGENCY: Import Administration, International Trade Administration, Department of Commerce.

EFFECTIVE DATE: March 23, 2005.

FOR FURTHER INFORMATION CONTACT: Scot Fullerton at (202) 482-1386 or Bobby Wong at (202) 482-0409; AD/CVD Operations, Office 9, Import Administration, International Trade Administration, U.S. Department of Commerce, 14th Street and Constitution Avenue, NW., Washington, DC 20230.

SUPPLEMENTARY INFORMATION:

Background

The Department of Commerce (the Department) received timely requests from Dafeng Shunli Import & Export Co., Ltd. (Shunli) and Shanghai Blessing Trade Co., Ltd (Shanghai Blessing) in accordance with 19 CFR 351.214(c), for new shipper reviews of the antidumping duty order on crawfish tail meat from the PRC. See Freshwater Crawfish Tail Meat From the People's Republic of China: Initiation of Antidumping Duty New Shipper Reviews, 69 FR 64028 (November 3, 2004). On October 28, 2004, the Department found that the requests for review with respect to Shunli and Shanghai Blessing met all the regulatory requirements set forth in 19 CFR 351.214(b) and initiated these new shipper antidumping duty reviews covering the period September 1, 2003, through August 31, 2004. Id.

Extension of Time Limits for Preliminary Results

Section 751(a)(2)(B)(iv) of the Tariff Act of 1930, as amended (the Act), and 19 CFR 351.214(i)(1) require the Department to issue the preliminary results of a new shipper review within 180 days after the date on which the new shipper review was initiated and final results of a review within 90 days after the date on which the preliminary results were issued. The Department may, however, extend the deadline for completion of the preliminary results of a new shipper review to 300 days if it determines that the case is extraordinarily complicated (19 CFR 351.214(i)(2)). The Department has determined that additional time is necessary to thoroughly evaluate surrogate value submissions, issue additional supplemental questionnaires, and gather additional publicly available factual information. Based on the timing of the case and necessary additional research, the preliminary results of this new shipper review cannot be completed within the statutory time limit of 180 days. Accordingly, the Department is extending the time limit for the completion of the preliminary results by 66 days from the original April 25, 2005, deadline, to June 30, 2005, in accordance with section 751(a)(2)(B)(iv) of the Act and 19 CFR 351.214(i)(2). The final results will, in turn, be due 90 days after the date of issuance of the preliminary results, unless extended.

Dated: March 16, 2005.
Barbara E. Tillman,
Acting Deputy Assistant Secretary for Import Administration.

[FR Doc. E5-1282 Filed 3-22-05; 8:45 am]

BILLING CODE 3510-DS-P